FEDERAL COMMUNICATIONS COMMISSION

[DA 22-319; FR ID 79826]

Announcement of Next Meeting of the Consumer Advisory Committee

AGENCY: Federal Communications Commission.

ACTION: Notice.

SUMMARY: This notice announces the next meeting date, time, and agenda of the FCC Consumer Advisory Committee (Committee), a federal advisory committee established under the Federal Advisory Committee Act (FACA).

DATES: April 26, 2022, from 1 p.m. to 3 p.m. EST.

ADDRESSES: The meeting will be held remotely using an internet videoconferencing platform and publicly available for viewing via a live stream on the Commission's website.

FOR FURTHER INFORMATION CONTACT: Scott Marshall, Designated Federal Officer, FCC Consumer Advisory Committee, Consumer and Governmental Affairs Bureau, Federal Communications Commission, 45 L Street NE, Washington, DC 20554; phone: 202-418-2809 (voice or Relay); email: scott.marshall@fcc.gov; or Gregory V. Haledjian, Deputy Designated Federal Officer, FCC Consumer Advisory Committee, Consumer and Governmental Affairs Bureau, Federal Communications Commission, 45 L Street NE, Washington, DC 20554; phone: 202-418-7440; email: gregory.haledjian@fcc.gov.

SUPPLEMENTARY INFORMATION: This is a summary of the Commission's Public Notice, DA 22-319, released March 25, 2022, announcing the date, time, and agenda of the Committee's April 26, 2022 meeting. At this meeting, the Committee will hear from the FCC Chairwoman and Commissioners {invited} and FCC staff regarding matters of interest to consumers and will consider and vote on a Recommendation regarding Consumer Broadband Labels.

This meeting will be conducted in a wholly electronic format using an internet videoconference platform. The meeting will be open to members of the public and available via live stream at www.fcc.gov/live. The FCC will post about the event on the agency's social media channels including Twitter (@FCC) and Facebook (www.facebook.com/fcc) in advance of the event and during the live stream. Members of the public may submit questions that arise during the meeting to livequEDTions@fcc.gov.

Open captioning will be provided for the live stream. Other reasonable accommodations for people with disabilities are available upon request. To request materials in accessible formats for people with disabilities (Braille, large print, electronic files, audio format), send an email to FCC504@fcc.gov or call the FCC's Consumer and Governmental Affairs Bureau at 202-418-0530 (voice).

Consult the Committee's web page at www.fcc.gov/consumer-advisory-committee for further Committee information.

Comments to the Committee may be submitted through the Designated Federal Officer or the Deputy Designated Federal Officer at the above email addresses.

Federal Communications Commission.
Gregory Haledjian,
Legal Advisor, Consumer and Governmental Affairs Bureau.

[FR Doc. 2022-06814 Filed 3-30-22; 8:45 am]

BILLING CODE 6712-01-P